DEPARTMENT OF COMMERCE

National Oceanic and Atmospheric Administration

[I.D. 032404C]

Marine Mammals; File Nos. 808-1735, 1036-1744, 1058-1733, 948-1692, and 605-1607

AGENCY: National Marine Fisheries Service (NMFS), National Oceanic and Atmospheric Administration (NOAA), Commerce.

ACTION: Receipt of applications.

SUMMARY: Notice is hereby given that the following individuals have applied in due form for permits or permit amendments to conduct scientific research on marine mammals: Dr. Andrew Read, Duke University Marine Laboratory, Beaufort, North Carolina 28516 (File No. 808-1735); Robert DiGiovanni, Riverhead Foundation for Marine Research and Preservation, 467 East Main Street, Riverhead, New York 11901 (File No. 1036-1744); Dr. Mark Baumgartner, Woods Hole Oceanographic Institution, Woods Hole, Massachusetts 02543 (File No. 1058-1733); Dr. Ann Pabst, University of North Carolina at Wilmington, 601 South College Road, Wilmington, North Carolina 28403 (File No. 948-1692); and Mason Weinrich, Whale Center of New England, Gloucester, Massachusetts 01931 (Permit No. 605-1607-01).

DATES: Written, telefaxed, or e-mail comments must be received on or before May 7, 2004.

ADDRESSES: The applications and related documents are available for review upon request or by appointment in the following office(s):

All documents: Permits, Conservation and Education Division, Office of Protected Resources, NMFS, 1315 East-West Highway, Room 13705, Silver Spring, MD 20910; phone (301)713-2289; fax (301)713-0376;

File Nos. 1058-1733, 1036-1744, 948-1692, and Permit No. 605-1607-01: Northeast Region, NMFS, One Blackburn Drive, Gloucester, MA 01930-2298; phone (978)281-9200; fax (978)281-9371;

File No. 948-1692 and Permit No. 605-1607-01: Southeast Region, NMFS, 9721 Executive Center Drive North, St. Petersburg, FL 33702-2432; phone (727)570-5301; fax (727)570-5320; and

File Nos. 1058-1733 and 808-1735: Southwest Region, NMFS, 501 West Ocean Blvd., Suite 4200, Long Beach, CA 90802-4213; phone (562)980-4001; fax (562)980-4018.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile to (301)713-0376, provided the facsimile is confirmed by hard copy submitted by mail and postmarked no later than the closing date of the comment period.

Additionally, comments may be submitted by e-mail. The mailbox address for providing email comments is NMFS.Pr1Comments@noaa.gov. Include the appropriate File No. (808-1735, 1036-1744, 1058-1733, 948-1692, or 605-1607) as a document identifier in the subject line of the e-mail comment.

FOR FURTHER INFORMATION CONTACT: Dr. Tammy Adams, Jill Lewandowski or Carrie Hubard at (301)713-2289.

SUPPLEMENTARY INFORMATION: The subject permits and permit amendment are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

File No. 808-1735: The applicant requests a 5-year permit for suction cup attachment of data logging tags to humpback (Megaptera novaeangliae), minke (Balaenoptera acutorostrata), fin (B. physalus), sei (B. borealis) and blue (B. musculus) whales to examine their foraging behavior relative to krill patches in waters surrounding Antarctica.

File No. 1036-1744: The applicant requests a 5-year permit to conduct aerial surveys to assess seasonal abundance and distribution of the North Atlantic right whale (Eubalaena glacialis) and other marine mammals in the New York Bight and surrounding waters, which will enhance the survey work performed by the NMFS Northeast Fisheries Science Center's Sighting Advisory System.

File No. 1058-1733: The applicant requests a 5-year permit for suction cup attachment of data logging tags to right whales in the North Atlantic and to blue, fin, humpback, sei, and Antarctic minke (B. bonaerensis) whales in the Southern Ocean to study diving and foraging behavior. The primary objectives are to: (1) develop a predictive model of right whale distribution; (2) determine overlap between right whale diving behavior and vertical structure of nearby fixed fishing gear; and (3) to understand trophic interactions between baleen whales and Antarctic krill and document the effect of whale predation on krill patch size and structure.

File No. 948-1692: The applicant requests a 5-year permit to investigate the distributions of North Atlantic right whales and humpback whales in mid-Atlantic waters using aerial and vessel-based surveys. These surveys will assist in understanding the seasonal distribution of these whales in Mid-Atlantic waters.

Permit No. 605-1607-01: Permit No. 605-1607-01, issued on June 11, 2001 (66 FR 32794) and which expires on June 30, 2006, currently authorizes the holder to assess the health, status, and trends of humpback, fin, sei, and North Atlantic right whales off the U.S. Atlantic coast from southern Maine to northern Florida through photo-identification, remote biopsy sampling, and attachment of time-depth recorders, VHF tags, and Crittercams The permit holder requests an amendment to increase the number of humpback and fin whales that can be suction cup tagged from 10 per year per species to 25 per year per species, and to increase the number of approaches/attempts per tag from 2 per animal to 5 per animal. The purpose of the suction cup mounted data logging tags is to study underwater behavior of the whales on their feeding grounds in New England waters and to gather information about noise levels and whale responses to vessel noise and vessel approaches.

Concurrent with the publication of this notice in the Federal Register, NMFS is forwarding copies of these applications to the Marine Mammal Commission and its Committee of Scientific Advisors.

Dated: March 31, 2004.
Stephen L. Leathery,
Chief, Permits, Conservation and Education Division, Office of Protected Resources, National Marine Fisheries Service.

[FR Doc. 04-7818 Filed 4-6-04; 8:45 am]

BILLING CODE 3510-22-S